OFFICE OF PERSONNEL MANAGEMENT

Excepted Service

AGENCY: U.S. Office of Personnel Management (OPM).

ACTION: Notice.

SUMMARY: This notice identifies Schedule A, B, and C appointing authorities applicable to a single agency that were established or revoked from October 1, 2014, to October 31, 2014.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

11. Department of Homeland Security (Sch. A, 213.3111)

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after December 31, 2015.

Schedule B

No Schedule B authorities to report during October 2014.

Schedule C

The following Schedule C appointing authorities were approved during October 2014.

Agency name | Organization name | Position title | Authorization No. | Effective date
DEPARTMENT OF AGRICULTURE | Office of the Under Secretary for Rural Development | Special Assistant | DA140124 | 10/1/2014.
| Office of the Assistant Secretary for Congressional Relations | Legislative Director | DA150001 | 10/3/2014
| Office of the Secretary | Confidential Assistant | DA150003 | 10/16/2014
| Farm Service Agency | State Executive Director, Idaho | DA150007 | 10/23/2014
|  | State Executive Director—Arizona | DA150008 | 10/23/2014
DEPARTMENT OF COMMERCE | Office of Policy and Strategic Planning | Senior Advisor for Manufacturing Policy | DC140166 | 10/7/2014
| Office of Deputy Assistant Secretary for Legislative and Intergovernmental Affairs | Associate Director for Oversight | DC150003 | 10/9/2014
| Office of Public Affairs | Director of Digital Strategy | DC150008 | 10/23/2014
| Office of the Director General of the United States and Foreign Commercial Service and Assistant Secretary for Global Markets | Special Assistant | DC150011 | 10/27/2014
CONSUMER PRODUCT SAFETY COMMISSION | Office of Commissioners | Special Assistant (Legal) | PS140015 | 10/1/2014
DEPARTMENT OF DEFENSE | Office of the Assistant Secretary of Defense for Legislative Affairs | Special Assistant | DD140147 | 10/3/2014
| Office of the Under Secretary of Defense for Policy | Special Assistant for Middle East | DD150002 | 10/21/2014
DEPARTMENT OF EDUCATION | Office of Postsecondary Education | Confidential Assistant Chief of Staff | DB150001 DB150005 | 10/10/2014 10/23/2014
| Office of Planning, Evaluation and Policy Development | Special Assistant | DB150002 | 10/16/2014
| Office of Special Education and Rehabilitative Services | Confidential Assistant | DB150004 | 10/17/2014
| Office of the Under Secretary | Special Assistant | DB150006 | 10/21/2014
| Office of Communications and Outreach | Special Assistant for Digital and Visual Media | DB150008 | 10/30/2014
|  | Press Secretary | DB150012 | 10/30/2014
| Office of the Secretary | Special Advisor for Strategy and Planning | DB150010 | 10/30/2014
|  | Confidential Assistant | DB150015 | 10/31/2014
| Office of the Deputy Secretary | Special Advisor | DB150011 | 10/30/2014
| Office of the General Counsel | Confidential Assistant | DB150014 | 10/31/2014
DEPARTMENT OF ENERGY | Assistant Secretary for Energy Efficiency and Renewable Energy | Director, Legislative Affairs | DE140113 | 10/2/2014
| Office of the Deputy Secretary | Special Assistant | DE150001 | 10/2/2014
| Office of Electricity Delivery and Energy Reliability | Senior Advisor for External Affairs | DE150002 | 10/22/2014
| Associate Administrator for External Affairs | Deputy Director of Congressional Affairs | DE150006 | 10/22/2014
| Office of Energy Policy and Systems Analysis | Special Assistant | DE150007 | 10/22/2014
| Office of Public Affairs | Deputy Press Secretary | DE150004 | 10/27/2014
| Office of Fossil Energy | Special Advisor for Emerging Markets | DE150005 | 10/29/2014
ENVIRONMENTAL PROTECTION AGENCY | Office of the Associate Administrator for Policy | Counsel for Policy | EP150002 | 10/20/2014
FEDERAL ENERGY REGULATORY COMMISSION | Office of the Chairman | Confidential Assistant | DR150002 | 10/16/2014
GENERAL SERVICES ADMINISTRATION | Office of Congressional and Intergovernmental Affairs | Policy Advisor | GS150002 | 10/7/2014
| New England Region | Special Assistant | GS150003 | 10/7/2014
DEPARTMENT OF HEALTH AND HUMAN SERVICES | Office of the Secretary Office of Communications | Special Assistant Senior Advisor | DH140139 DH150002 | 10/1/2014 10/3/2014
| Office of the Assistant Secretary for Children and Families | Confidential Assistant | DH150003 | 10/17/2014
| Office of Refugee Resettlement/Office of the Director | Special Advisor | DH150020 | 10/30/2014
| Office of Health Reform | Director of Outreach (Office of Health Reform) | DH150024 | 10/30/2014
| Office of the Assistant Secretary for Legislation | Confidential Assistant for Legislation, Discretionary Health | DH150014 | 10/31/2014
| Office of the Assistant Secretary for Public Affairs | Communications Director for Public Health | DH150019 | 10/31/2014
| Health Resources and Services Administration Office of the Administrator | Special Assistant and Policy Advisor | DH150021 | 10/31/2014
DEPARTMENT OF HOMELAND SECURITY | United States. Immigration and Customs Enforcement | Special Assistant | DM150006 | 10/8/2014
| Office of Assistant Secretary for Legislative Affairs | Chief of Staff | DM150009 | 10/10/2014
| Office of Assistant Secretary for Public Affairs | Confidential Assistant for Public Affairs | DM150010 | 10/10/2014
|  | Assistant Press Secretary | DM150019 | 10/29/2014
| United States Citizenship and Immigration Services | Press Secretary and Advisor for Intergovernmental and External Affairs | DM150011 | 10/14/2014
| Office of the Assistant Secretary for Intergovernmental Affairs | Intergovernmental Affairs Coordinator (2) | DM150012 DM150008 | 10/14/2014 10/23/2014
| Office of the Chief of Staff | Advance Officer | DM150017 | 10/30/2014
| Federal Emergency Management Agency | Press Secretary | DM150018 | 10/31/2014
DEPARTMENT OF HOUSING AND URBAN DEVELOPMENT | Office of Fair Housing and Equal Opportunity | Chief of Staff/Senior Advisor | DU150003 | 10/17/2014
| Office of Administration | Director of Advance | DU150004 | 10/30/2014
| Office of the Secretary | Deputy White House Liaison | DU150006 | 10/30/2014
DEPARTMENT OF THE INTERIOR | Office of Assistant Secretary for Fish and Wildlife and Parks | Advisor | DI140073 | 10/2/2014
| Secretary's Immediate Office | Special Assistant | DI140072 | 10/21/2014
| National Park Service | Centennial Campaign Public Affairs Specialist | DI150006 | 10/30/2014
DEPARTMENT OF JUSTICE | Civil Rights Division | Senior Counsel | DJ140135 | 10/1/2014
| Office of the Associate Attorney General | Deputy Chief of Staff and Counsel | DJ150002 | 10/3/2014
|  | Senior Counsel (2) | DJ140129 DJ150012 | 10/6/2014 10/30/2014
| Office of Public Affairs | Public Affairs Specialist (2) | DJ140123 DJ150010 | 10/7/2014 10/29/2014
| Office of Justice Programs | Senior Policy Advisor | DJ150009 | 10/22/2014
| Office on Violence Against Women | Deputy Director for Policy Development | DJ150013 | 10/30/2014
DEPARTMENT OF LABOR | Office of the Secretary | Special Assistant | DL150002 | 10/16/2014
| Office of the Assistant Secretary for Policy | Associate Deputy Assistant Secretary | DL150004 | 10/23/2014
| Mine Safety and Health Administration | Special Assistant | DL150008 | 10/23/2014
NATIONAL AERONAUTICS AND SPACE ADMINISTRATION | Office of Legislative and Intergovernmental Affairs | Management Analyst | NN150004 | 10/23/2014
| Office International and Interagency Relations | International Affairs Specialist | NN150005 | 10/23/2014
OFFICE OF MANAGEMENT AND BUDGET | Office of Communications | Press Secretary Deputy Press Secretary | BO150001 BO150002 | 10/6/2014 10/27/2014
OFFICE OF SCIENCE AND TECHNOLOGY POLICY | Office of Science and Technology Policy | Confidential Assistant | TS150002 | 10/20/2014
SMALL BUSINESS ADMINISTRATION | Office of Congressional and Legislative Affairs | Special Advisor | SB150004 | 10/30/2014
| Office of Capital Access | Senior Advisor for Capital Access | SB150005 | 10/30/2014
DEPARTMENT OF STATE | Bureau of Political and Military Affairs | Staff Assistant | DS150002 | 10/3/2014
| Office of the Chief of Protocol | Protocol Officer (Visits) | DS150003 | 10/3/2014
|  | Public Affairs Specialist | DS150004 | 10/17/2014
| Office of the Counselor | Staff Assistant | DS140120 | 10/16/2014
DEPARTMENT OF VETERANS AFFAIRS | Office of the Assistant Secretary for Public and Intergovernmental Affairs | Special Assistant | DV140048 | 10/3/2014
| Office of the Secretary and Deputy | Special Assistant | DV140049 | 10/3/2014

The following Schedule C appointing authorities were revoked during October 2014.

Agency name | Organization name | Position title | Authorization No. | Vacate date
DEPARTMENT OF COMMERCE | Deputy Assistant Secretary for Domestic Operations | Special Assistant | DC130061 | 10/4/2014
| Assistant Secretary for Industry and Analysis | Deputy Director, Office of Advisory Committees | DC130002 | 10/15/2014
CONSUMER PRODUCT SAFETY COMMISSION | Office of Commissioners | Special Assistant (Legal) | PS100003 | 10/18/2014
OFFICE OF THE SECRETARY OF DEFENSE | Office of Assistant Secretary of Defense (Public Affairs) | Senior Public Affairs Advisor Speechwriter | DD140003 DD130012 | 10/1/2014 10/17/2014
| Office of the Assistant Secretary of Defense (Homeland Defense and America's Security Affairs) | Special Assistant to the Assistant Secretary of Defense for Homeland Defense and America's Security Affairs | DD130050 | 10/4/2014
| Office of Assistant Secretary of Defense (Legislative Affairs) | Special Assistant | DD130129 | 10/20/2014
DEPARTMENT OF THE AIR FORCE | Office of Assistant Secretary Air Force, Installations, Environment, and Logistics | Special Assistant | DF100073 | 10/4/2014
DEPARTMENT OF EDUCATION | Office of Special Education and Rehabilitative Services | Confidential Assistant | DB110015 | 10/19/2014
ENVIRONMENTAL PROTECTION AGENCY | Advance Staff | Deputy Director for Advance | EP110032 | 10/11/2014
| Office of Public Affairs | Deputy Associate Administrator for External Affairs and Environmental Education | EP140013 | 10/11/2014
| The Deputy Administrator | Special Assistant to the Deputy Administrator for Policy and Operations | EP130033 | 10/18/2014
|  | Policy Advisor to the Deputy Administrator | EP130034 | 10/25/2014
DEPARTMENT OF HEALTH AND HUMAN SERVICES | Office of the Secretary | Advance Lead Special Assistant | DH130106 DH140125 | 10/4/2014 10/4/2014
DEPARTMENT OF HOMELAND SECURITY | Office of the Under Secretary for National Protection and Programs Directorate | Special Assistant to the Under Secretary, National Protection and Programs Directorate | DM100338 | 10/4/2014
| Federal Emergency Management Agency | Director of Individual and Community Preparedness | DM130059 | 10/18/2014
DEPARTMENT OF HOUSING AND URBAN DEVELOPMENT | Office of the Secretary | Special Policy Advisor | DU130044 | 10/4/2014
| Office of Public Affairs | Deputy Press Secretary | DU130051 | 10/28/2014
DEPARTMENT OF JUSTICE | Office of Public Affairs | Public Affairs Specialist | DJ120103 | 10/18/2014
| Office of the Associate Attorney General | Counsel and Deputy Chief of Staff | DJ140046 | 10/18/2014
DEPARTMENT OF LABOR | Office of Congressional and Intergovernmental Affairs | Deputy Director of Intergovernmental Affairs | DL130009 | 10/4/2014
SMALL BUSINESS ADMINISTRATION | Office of Communications and Public Liaison | Press Secretary Special Assistant | SB120017 SB120038 | 10/18/2014 10/26/2014
| Office of Capital Access | Deputy Associate Administrator for Capital Access | SB120034 | 10/19/2014
DEPARTMENT OF VETERANS AFFAIRS | Office of the Assistant Secretary for Public and Intergovernmental Affairs | Special Assistant | DV120061 | 10/4/2014
| Office of the Secretary and Deputy | Special Assistant | DV130049 | 10/4/2014

Authority: 5 U.S.C. 3301 and 3302; E.O. 10577, 3 CFR, 1954-1958 Comp., p. 218.

U.S. Office of Personnel Management.
Katherine Archuleta,
Director.

[FR Doc. 2014-30691 Filed 12-30-14; 8:45 am]

BILLING CODE 6325-39-P